ENVIRONMENTAL PROTECTION AGENCY

[FRL-13110-01-OA]

Farm, Ranch, and Rural Communities Advisory Committee (FRRCC); Call for Nominations

AGENCY: Environmental Protection Agency (EPA).

ACTION: Notice request for nominations.

SUMMARY: The Environmental Protection Agency (EPA) is inviting nominations for membership on the Farm, Ranch, and Rural Communities Advisory Committee (FRRCC). The purpose of the FRRCC is to provide policy advice, information, and recommendations to the EPA Administrator on a range of environmental issues and policies that are of importance to agriculture and rural communities.

DATES: To be considered for the 2025-2027 appointments, nominations should be submitted no later than March 2, 2026.

ADDRESSES: Submit nominations electronically with the subject line “FRRCC Membership 2025-2027” to FRRCC@epa.gov.

General information regarding the FRRCC can be found on the EPA website at: www.epa.gov/faca/frrcc. General information about federal advisory committees at EPA is available at www.epa.gov/faca.

FOR FURTHER INFORMATION CONTACT: Susan Park, Deputy Associate Administrator for Strategic Initiatives, Office of External Affairs, U.S. EPA, 1200 Pennsylvania Avenue NW, Washington, DC 20460; telephone number: 202-564-2529; email address: FRRCC@epa.gov.

SUPPLEMENTARY INFORMATION:

I. Background

EPA established the FRRCC in 2008 pursuant to the Federal Advisory Committee Act, Public Law 92-463, to help EPA build a more positive and proactive relationship with the agricultural industry in furtherance of EPA's mission to protect human health and the environment. The FRRCC serves as part of EPA's efforts to expand cooperative working relationships with the agriculture community and others who are interested in agricultural issues and achieving greater progress in environmental protection. The FRRCC provides advice and recommendations to the EPA Administrator on environmental issues and programs that impact, or are of concern to, farms, ranches, and rural communities. Topics addressed may include water or air quality issues, pesticides, toxics, food loss and waste, emergency response, enforcement and compliance, technology and innovation, and other topics of environmental importance pertaining to agriculture and rural communities. The charter for the FRRCC was renewed November 12th, 2025. The membership of this committee will include a balanced representation of interested persons with relevant experience to contribute to the functions of the committee, and will be drawn from relevant sectors, including but not limited to academia, agricultural industry, nongovernmental organizations, and state, local, and tribal governments.

The FRRCC will be comprised of no more than 21 members: including one chair, and one vice-chair. Additional members, commonly referred to as “alternates,” are not permitted. Members will serve no more than three, two-year terms; except in the initial implementation where ten members shall serve one three-year term, and eleven members shall serve the standard two-year term. The three-year term will count as one-term towards the two-term limit. The intent of the initial three-year term is to stagger the departure of members and preserve institutional memory. Term limits will commence upon renewal of this charter and will not consider service rendered prior to this charter.

The full committee expects to meet up to two times per calendar year. Meetings will be held in Washington, DC, the EPA Regions, and/or virtually. The Administrator may ask members to serve on subcommittees and workgroups to develop reports and recommendations to address specific policy issues, reflecting the priorities of the administration. The average workload for members is approximately five hours per month. Members serve on the committee in a voluntary capacity. Although we are unable to offer compensation or an honorarium, members may receive travel and per diem allowances, according to applicable Federal travel regulations and the agency's budget.

II. Eligibility

Because of the nature of the issues to be discussed, it is the intent of the Agency for the majority of Committee members to be actively engaged in farming or ranching. The membership of this committee will include a balanced representation of interested persons with relevant experience to contribute to the functions of the committee and will be drawn from a variety of relevant sectors. Members may represent farmers, ranchers, and rural communities (can include large, small, crop, livestock, commodity, and specialty producers from various regions)—and their allied industries (farm groups, rural suppliers, marketers, processors, etc.) as well as the academic/research community who research environmental issues impacting agriculture, tribal agriculture groups, state, local, and tribal government, and environmental/conservation and other nongovernmental organizations. Individuals are generally appointed to serve on the FRRCC as “Representative” members and are thus expected to represent the points of view of a particular group (e.g., an industry sector), rather than provide independent judgment and expertise. Other Federal agencies and other sectors as appropriate may be invited to attend or provide presentations at committee meetings as non-members.

In selecting committee members, EPA will consider each candidate's qualifications including, but not limited to, on whether the candidate is:

• Actively engaged in farming

• Occupies a senior position within their organization

• Holds leadership positions in ag-related organizations, businesses and/or workgroups

• Has broad agricultural experience regardless of their current position

• Has experience working on issues where building consensus is necessary

• Has membership in professional societies, broad-based networks or the equivalent

• Has extensive experience in the environmental field dealing with agricultural issues

• Provides services to producers

• Is involved in processing, retailing, manufacturing, and distribution of agricultural products

• Possesses a professional knowledge of agricultural issues and environmental policy

• Possesses a demonstrated ability to examine and analyze complicated environmental issues with objectivity and integrity

• Possesses excellent interpersonal as well as oral and written communication skills

• Possesses an ability and willingness to participate in a deliberative and collaborative process

In addition, well-qualified applicants must be prepared to process a substantial amount of complex and technical information and the ability to volunteer several hours per month to the committee's activities, including participation in teleconference meetings and preparation of text for committee reports.

III. Nominations

Any interested person or organization may submit the names of qualified persons, including themselves. To be considered, all nominations should include the information requested below:

Nominee Contact Information

• Name:

• Organization:

• Business address:

• Position/Title:

• Email address:

• Phone number:

Statement (limit to 1 page)

• (1) Interest and Availability:

• (2) Identify group(s) whose views you are representing and how. Potential groups include Farmer; Rancher; Academia; Federal/State/Local/Tribal Government; Non-governmental Organization; Agriculture Industry; Other: __.

• (3) Prior experience on Federal Advisory Committee(s), please provide dates of service:

• (4) How did you learn of the FRRCC Membership opportunity:

Attach resume or CV (limit to 5 pages) detailing the nominee's background, experience and qualifications and other relevant information. Submit through FRRCC@epa.gov with the subject line “FRRCC Membership 2025-2027.” Letters of support and recommendation will be accepted but are not mandatory. Other sources, in addition to this Federal Register document, may be utilized in the solicitation of nominees. EPA encourages the nominations of interested individuals from diverse backgrounds. Individuals may self-nominate.

Dated: December 23, 2025.
Henry Turner Bridgforth,
Senior Advisor for Agriculture and Rural Affairs, EPA.

[FR Doc. 2026-00779 Filed 1-15-26; 8:45 am]

BILLING CODE 6560-50-P